DEPARTMENT OF STATE

[Public Notice: 9492]

Notice of Public Meeting of the President's Emergency Plan for AIDS Relief (PEPFAR) Scientific Advisory Board

Summary: In accordance with the Federal Advisory Committee Act (FACA), the PEPFAR Scientific Advisory Board (hereinafter referred to as “the Board”) will meet on Tuesday, April 19, 2016 at 1800 G St. NW., Suite 10300, Washington DC 20006. The meeting will last from 8:30 a.m. until approximately 5:00 p.m. and is open to the public.

The meeting will be hosted by the Office of the U.S. Global AIDS Coordinator, and led by Ambassador Deborah Birx, who leads implementation of the President's Emergency Plan for AIDS Relief (PEPFAR), and the Board Chair, Dr. Carlos del Rio.

The Board serves the Global AIDS Coordinator in a solely advisory capacity concerning scientific, implementation, and policy issues related to the global response to HIV/AIDS. These issues will be of concern as they influence the priorities and direction of PEPFAR evaluation and research, the content of national and international strategies and implementation, and the role of PEPFAR in international discourse regarding an appropriate and resourced response. Topics for the meeting will include follow-up discussion of previous Board recommendations on “Test and START” and pre-exposure prophylaxis (PrEP); updates on PEPFAR 3.0 programmatic activities in a number of areas including epidemic control, financing, tuberculosis (TB)/HIV co-infection and increasing civil society engagement in PEPFAR processes and decisions.

The public may attend this meeting as seating capacity allows. Admittance to the meeting will be by means of a pre-arranged clearance list. In order to be placed on the list and, if applicable, to request reasonable accommodation, please register online via the following: http://goo.gl/forms/DchykN6z43 no later than Tuesday, April 5. While the meeting is open to public attendance, the Board will determine procedures for public participation. Requests for reasonable accommodation that are made after 5:00 p.m. on April 8 might not be possible to fulfill.

For further information about the meeting, please contact Dr. Julia MacKenzie, Designated Federal Officer for the Board, Office of the U.S. Global AIDS Coordinator and Health Diplomacy at MacKenzieJJ@state.gov.

Dated: March 10, 2016.
Julia MacKenzie,
Office of the U.S. Global AIDS Coordinator and Health Diplomacy, Department of State.

[FR Doc. 2016-06558 Filed 3-22-16; 8:45 am]

BILLING CODE 4710-10-P